EXPORT-IMPORT BANK OF THE UNITED STATES

[Public Notice 2011-0070]

Agency Information Collection Activities: Comment Request

AGENCY: Export-Import Bank of the United States.

ACTION: Submission for OMB Review and Comments Request.

Form Title: EIB 11-08 Application for Global Credit Express Revolving Line of Credit.

SUMMARY: The Export-Import Bank of the United States (Ex-Im Bank), as a part of its continuing effort to reduce paperwork and respondent burden, invites the general public and other Federal Agencies to comment on the proposed information collection, as required by the Paperwork Reduction Act of 1995.

The Application for Global Credit Express Revolving Line of Credit will be used to determine the eligibility of the applicant and the transaction for Export-Import Bank assistance under its Working Capital Guarantee and Direct Loan Program. Export-Import Bank customers will be able to submit this form on paper or electronically.

This is a new application form for use by small U.S. businesses with limited export experience. Companies that are eligible to use the Application for Global Credit Express Revolving Line of Credit will need to answer approximately 35 questions and sign an acknowledgement of the certifications that appear on page 5 of the application form. This program relies to a large extent on the exporter's qualifying score on the FICO (Fair Issac Corporation) SBSS (Small Business Scoring Service). Therefore the financial and credit information needs are minimized. This new form incorporates the recently updated standard Certifications and Notices section as well as one question about the amount of U.S. employment to be supported by this program.

The application can be reviewed at: http://www.exim.gov/pub/pending/EIB11-08.pdf. Application for Global Credit Express Revolving Line of Credit.

DATES: Comments should be received on or before February 27, 2012 to be assured of consideration.

ADDRESSES: Comments may be submitted electronically on http://www.regulations.gov or by mail to Jim Newton, Export-Import Bank of the United States, 811 Vermont Ave. NW., Washington, DC 20571.

SUPPLEMENTARY INFORMATION:

Titles and Form Number: EIB 11-08 Application for Global Credit Express Revolving Line of Credit.

OMB Number: 3048-xxxx.

Type of Review: New.

Need and Use: The Application for Global Credit Express Revolving Line of Credit will be used to determine the eligibility of the applicant and the transaction for Export-Import Bank assistance under its Working Capital Guarantee Program.

Annual Number of Respondents: 500.

Estimated Time per Respondent: 1.5 hours.

Government Annual Burden Hours: 500 hours.

Frequency of Reporting or Use: Once per year.

Sharon A. Whitt,
Agency Clearance Officer.

[FR Doc. 2011-33084 Filed 12-23-11; 8:45 am]

BILLING CODE 6690-01-P